DEPARTMENT OF TRANSPORTATION

Coast Guard

33 CFR Part 117

[CGD 07-00-023]

RIN 2115-AE47

Drawbridge Operation Regulations; Ortega River, Jacksonville, FL

AGENCY: Coast Guard, DOT.

ACTION: Notice of temporary deviation from regulations.

SUMMARY: Notice is hereby given that the Commander, Seventh Coast Guard District has approved a temporary deviation from the regulations governing the operation of the CSX Railroad Drawbridge across Ortega River, mile 1.1, which parallels U.S. 17, at Jacksonville, Duval County, Florida. This deviation allows the drawbridge owner or operator to close the bridge from 7 a.m. to 7 p.m. each day on April 11 and 12, 2000, with alternative dates of April 18, 2000 and April 19, 2000. The draw shall open as soon as possible for public vessels of the United States, State and local vessels used in public safety, vessels in distress where a delay would endanger life or property, commercial vessels engaged in rescue or emergency salvage operations, and vessels seeking shelter from severe weather. This temporary deviation is issued to allow the bridge owner to safely conduct necessary repairs to the drawbridge.

DATES: This deviation is effective from 7 a.m on April 11, 2000, to 7 p.m. on April 19, 2000.

FOR FURTHER INFORMATION CONTACT: Mr. Brodie Rich, Project Manager, Seventh Coast Guard District, Bridge Section at (305) 536-5117.

SUPPLEMENTARY INFORMATION: The CSX railroad drawbridge across Ortega River at Jacksonville, has a vertical clearance of 2 feet above mean high water (MHW) and 3 feet above mean low water (MLW) measured at the fenders in the closed position. On March 6, 2000, TIC The Industrial Company, the contractor representing the drawbridge owner, requested a deviation from the current operating schedule in 33 CFR 117.5. This temporary deviation was requested to allow necessary repairs to the drawbridge in a critical time sensitive manner. The contractor has advised us that the drawbridge is likely to suffer failure of operation and increase the intensity and length of time in order to complete the necessary repairs.

The District Commander has granted a temporary deviation from the operating requirements listed in 33 CFR 117.5 for the purpose of conducting repairs to the drawbridge. During this deviation period, the CSX Railroad Drawbridge need not open for the passage of vessels from 7 a.m. to 7 p.m. each day on April 11 and 12, 2000, with an alternate date of April 18 and 19, 2000, if inclement weather prevents repairs on April 11 and 12. The deviation period begins on April 11, 2000 and ends on April 19, 2000.

Dated: March 22, 2000.
T.W. Allen,
Admiral, U.S. Coast Guard, Commander, Seventh Coast Guard District.

[FR Doc. 00-8658 Filed 4-6-00; 8:45 am]

BILLING CODE 4910-15-P